DEPARTMENT OF LABOR

Employment and Training Administration

[TA-W-63,581]

Varian Semiconductor Equipment, Gloucester, MA; Notice of Termination of Investigation

Pursuant to Section 221 of the Trade Act of 1974, as amended, an investigation was initiated on June 23, 2008 in response to a worker petition filed by a company official on behalf of workers at Varian Semiconductor Equipment, Gloucester, Massachusetts.

The petitioner has requested that the petition be withdrawn. Consequently, the investigation has been terminated.

Signed at Washington, DC this 30th day of June 2008.
Linda G. Poole,
Certifying Officer, Division of Trade Adjustment Assistance.

[FR Doc. E8-15867 Filed 7-11-08; 8:45 am]

BILLING CODE 4510-FN-P